DEPARTMENT OF HOMELAND SECURITY

Coast Guard

33 CFR Part 117

[CGD01-04-022]

Drawbridge Operation Regulations: Piscataqua River, ME

AGENCY: Coast Guard, DHS.

ACTION: Notice of temporary deviation from regulations.

SUMMARY: The Commander, First Coast Guard District, has issued a temporary deviation from the drawbridge operation regulations for the Memorial (US1) Bridge, mile 3.5, across the Piscataqua River between Portsmouth, New Hampshire and Kittery, Maine. Under this temporary deviation, bridge openings for recreational vessels and commercial vessels less than 100 gross tons, will be scheduled at specific times from April 5, 2004 through May 21, 2004. This temporary deviation is necessary to facilitate structural repairs at the bridge.

DATES: This deviation is effective from April 5, 2004 through May 21, 2004.

FOR FURTHER INFORMATION CONTACT: John McDonald, Project Officer, First Coast Guard District, at (617) 223-8364.

SUPPLEMENTARY INFORMATION: The Memorial (US1) Bridge has a vertical clearance in the closed position of 19 feet at mean high water and 27 feet at mean low water. The existing drawbridge operation regulations are listed at 33 CFR § 117.531(b).

The bridge owner, New Hampshire Department of transportation (NHDOT), requested a temporary deviation from the drawbridge operation regulations to facilitate necessary structural maintenance at the bridge.

The bridge must remain in the closed position to allow the construction equipment and personnel to repair the moveable lift span and lift towers. The bridge will open for recreational vessels and commercial vessels less than 100 gross tons from 6 a.m. to 5 p.m., Monday through Friday, at 6 a.m., 9 a.m., 12 p.m., 3 p.m., and 5 p.m., respectively. From 5 p.m. through 6 a.m. and on weekends, the draw shall open on signal.

Bridge openings will continue to be provided as soon as possible at all times for commercial vessels greater than 100 gross tons, inbound fishing vessels, and inbound ferry service vessels.

The bridge owner did not provide the required thirty-day notice to the Coast Guard for this deviation; however, this deviation was approved because the repairs are vital necessary repairs that must be performed with undue delay in order to assure the continued safe reliable operation of the bridge.

Under this temporary deviation the Memorial (US1) Bridge shall open on signal; except that, from April 5, 2004 through May 21, 2004, Monday through Friday, the draw shall open for recreational vessels and commercial vessels less than 100 gross tons at 6 a.m., 9 a.m., 12 p.m., 3 p.m., and 5 p.m., respectively. Commercial vessels greater than 100 gross tons, inbound fishing vessels, and inbound ferry service vessels shall be passed as soon as possible at all times.

This deviation from the operating regulations is authorized under 33 CFR 117.35(b), and will be performed with all due speed in order to return the bridge to normal operation as soon as possible.

Dated: March 25, 2004.
John L. Grenier,
Captain, U.S. Coast Guard, Acting Commander, First Coast Guard District.

[FR Doc. 04-7622 Filed 4-2-04; 8:45 am]

BILLING CODE 4910-15-P